DEPARTMENT OF ENERGY

Revision to the Record of Decision on the Proposed Nuclear Weapons Nonproliferation Policy Concerning Foreign Research Reactor Spent Nuclear Fuel

AGENCY: Department of Energy.

ACTION: Revision to Record of Decision.

SUMMARY: The Department of Energy (DOE), pursuant to 10 CFR 1021.315, is revising the Record of Decision issued on May 13, 1996 (61 FR 25092) to allow the shipment of up to sixteen casks of spent nuclear fuel on a single ocean-going vessel transporting foreign research reactor spent nuclear fuel to the United States. That Record of Decision was issued after completion of the Environmental Impact Statement on the Proposed Nuclear Weapons Nonproliferation Policy Concerning Foreign Research Reactor Spent Nuclear Fuel, DOE-218F, February 1996 (The Final EIS).

FOR FURTHER INFORMATION CONTACT: For further information on the DOE program for the management of foreign research reactor spent nuclear fuel or the Record of Decision, contact: Mr. David G. Huizenga, Deputy Assistant Secretary for Integration and Disposition, Office of Environmental Management (EM-20), U.S. Department of Energy, 1000 Independence Avenue, SW, Washington, DC 20585, (202) 586-5151. For information on DOE's National Environmental Policy Act (NEPA) process, contact: Ms. Carol Borgstrom, Director, Office of NEPA Policy and Assistance (EH-42), U.S. Department of Energy, 1000 Independence Avenue, SW, Washington, DC 20585, telephone (202) 586-4600, or leave a message at 1-800-472-2756.

SUPPLEMENTARY INFORMATION:

I. Background

DOE, in consultation with the Department of State, issued the Final EIS in February 1996. The Final EIS considered the potential environmental impacts of a proposed policy to manage spent nuclear fuel and target material from foreign research reactors. The Record of Decision was issued on May 13, 1996, and was published in the Federal Register on May 17, 1996 (61 FR 25092). In the Record of Decision, DOE announced the decision to implement the proposed policy as identified in the Preferred Alternative contained in the Final EIS, subject to additional stipulations specified in Section VII of the Record of Decision. Three revisions to the Record of Decision have been issued, one regarding taking title of the spent fuel at locations other than the U.S. port of entry for countries with other-than-high-income economies, and the other two regarding the fee policy for acceptance of foreign research reactor spent nuclear fuel (61 FR 38720, July 25, 1996; 61 FR 26507, May 28, 1996; and 64 FR 18006, April 13, 1999, respectively).

II. Reason for This Revision

The May 1996 Record of Decision limits the number of casks containing spent nuclear fuel on a single ocean-going vessel to eight. Based upon the experience gained during the implementation of the Foreign Research Reactor Spent Nuclear Fuel Acceptance Program, DOE has come to recognize that a need may arise during implementation of the policy for the United States to ship up to sixteen casks of spent nuclear fuel on a single ocean-going vessel.

DOE committed in the Record of Decision, and in subsequent discussions with representatives of the state and local jurisdictions through which spent nuclear fuel foreign research reactors is transported, to minimize the number of spent fuel shipments made over the 13-year period of the acceptance program. At the time those commitments were made, the worldwide supply of spent fuel casks available for use in transporting foreign research reactor spent nuclear fuel was very limited, and thus DOE forecasted that no more than eight casks could be made available to support any one shipment. Subsequent to the issuance of the Record of Decision, however, the worldwide supply of spent fuel casks has increased to the point where it is possible to transport more than eight casks on a single ocean-going vessel. As a planning basis, DOE believes that it would now be possible to transport up to 16 casks on a single ocean-going vessel.

DOE has reviewed the potential environmental impacts of transporting up to 16 casks on a single ocean-going vessel and compared the potential impacts with the analysis in the Final EIS, as part of a Supplement Analysis that DOE prepared in accordance with 10 CFR 1021.314 (Supplement Analysis of Acceptance of Foreign Research Reactor Spent Nuclear Fuel Under Scenarios Not Specifically Mentioned in the EIS, DOE/EIS-0218-SA-2, issued August 1998). Based on that Supplement Analysis, DOE determined that the potential environmental impacts of transporting up to 16 casks would be less than the impact estimated in the Final EIS, and that a supplement to the Final EIS is not required.

For example, the Supplement Analysis concludes that increasing the number of casks per vessel from eight to sixteen would not effect the radiological risk from accidents. The Supplement Analysis also concludes that the potential incident-free radiological risk would be expected to remain essentially the same for the program, but increase slightly on a per voyage basis. However, as the Supplement Analysis explains, experience has shown that the Final EIS estimates of doses during daily spent fuel inspections aboard ship were very conservative (i.e. tending to overstate risk). To date, all exposures of ship personnel have been well below the regulatory limit and well within the conservative estimates made in the Final EIS. Nevertheless, DOE will continue to implement the mitigative measures outlined in the Mitigation Action Plan that will prevent ships' crews from receiving doses greater than those allowed by regulatory limits.

The use of up to sixteen casks per shipment would not change the total number of spent fuel casks or elements that will be accepted by DOE over the term of the acceptance program. Because the total number of spent fuel casks to be accepted remains the same, and the incident free and accident risks of transporting up to sixteen casks would not be materially different from the risks of transporting eight casks, DOE has concluded that the impacts from shipping up to sixteen casks on a single vessel, and subsequent train or truck shipments, would be within the bounds of potential environmental impacts discussed in the Final EIS. Further, adding up to eight more casks per shipment whenever possible would better promote the commitment set forth in the Record of Decision to reduce the number of spent fuel shipments.

For the reasons set forth above, Section VII (“Decision”), Paragraph A, of the Record of Decision issued on May 13, 1996, is revised to read as follows:

A. DOE will reduce the number of shipments necessary by coordinating shipments from several reactors at a time (i.e., by placing multiple casks [up to sixteen] on a ship). DOE currently estimates that a maximum of approximately 150 to 300 shipments through the Charleston Naval Weapons Station and five shipments through the Concord Naval Weapons Station will be necessary during the 13 year spent fuel acceptance period.

In addition, Section VIII (“Use of All Practicable Means to Avoid or Minimize Harm”), Paragraph C of the Record of Decision is revised to read as follows:

C. DOE will reduce the risk associated with shipment of the spent fuel by shipping multiple casks per shipment, up to a maximum of sixteen, whenever possible, thus reducing the total number of shipments.

Issued in Washington, D.C., this 10th day of July, 2000.
Carolyn L. Huntoon,
Assistant Secretary for Environmental Management.

[FR Doc. 00-18229 Filed 7-18-00; 8:45 am]

BILLING CODE 6450-01-P